DEPARTMENT OF AGRICULTURE

Rural Utility Service

Notice of Request for Extension of Currently Approved Information Collection

AGENCY: Rural Utilities Service, USDA.

ACTION: Notice and request for comments.

SUMMARY: In accordance with the Paperwork Reduction Act of 1995, the Rural Utilities Service (RUS) invites comments on this information collection for which approval from the Office of Management and Budget (OMB) will be requested.

DATES: Comments on this notice must be received by July 8, 2019.

FOR FURTHER INFORMATION CONTACT: Thomas P. Dickson, Rural Development Innovation Center—Regulatory Team 2, USDA, 1400 Independence Avenue SW, STOP 1522, South Building, Washington, DC 20250-1522. Telephone: (202) 690-4492. Email Thomas.dickson@usda.gov.

SUPPLEMENTARY INFORMATION:

Title: Equipment Contract (395) for Telecommunications and Broadband Programs.

OMB Control Number: 0572-0149.

Type of Request: Extension of a currently approved information collection package.

Abstract: The RUS manages the Telecommunications loan program and Rural Broadband Access, to provide loans and loan guarantees to fund the cost of construction, improvement, or acquisition of facilities and equipment for the provision of broadband service in eligible rural communities. RUS has established the use of certain standardized forms for materials, equipment, and construction of electric and telecommunications systems. The use of standard forms, construction contracts, and procurement procedures help to assure that appropriate standards and specifications are maintained by the borrower in order to not adversely affect RUS's loan security and ensure that loan and loan guarantee funds are effectively used for the intended purpose(s).

Estimate of Burden: Public reporting for this collection of information is estimated to average .52 hour per response.

Respondents: Business or other for profit, not-for-profit institutions.

Estimated Number of Respondents: 51.

Estimated Number of Responses per Respondent: 6.1.

Estimated Total Annual Burden on Respondents: 161.

Comments

Comments are invited on: (a) Whether the proposed collection of information is necessary for the proper performance of the functions of the Rural Business-Cooperative Service, including whether the information will have practical utility; (b) the accuracy of Rural Business-Cooperative Service's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to: Thomas P. Dickson, Rural Development Innovation Center—Regulatory Team 2, USDA, 1400 Independence Avenue SW, STOP 1522, South Building, Washington, DC 20250-1522. Telephone: (202) 690-4492. Email Thomas.dickson@usda.gov. All responses to this notice will be summarized and included in the request for OMB approval. All comments will become a matter of public record.

Copies of this information collection can be obtained from Diane M. Berger, Rural Development Innovation Center—Regulatory Team, (715) 619-3124.

Chad Rupe,
Acting Administrator, Rural Utilities Service.

[FR Doc. 2019-09339 Filed 5-6-19; 8:45 am]

BILLING CODE 3410-15-P